DEPARTMENT OF TRANSPORTATION

National Highway Traffic Safety Administration

[Docket Number DOT-NHTSA-2018-0034]

Notice and Request for Comments

AGENCY: National Highway Traffic Safety Administration (NHTSA), Department of Transportation (DOT).

ACTION: Notice and request for comments.

SUMMARY: The Department of Transportation (DOT) invites public comments about our intention to request the Office of Management and Budget (OMB) approval to start a new information collection. Before a Federal agency can collect certain information from the public, it must receive approval from the Office of Management and Budget (OMB). Under procedures established by the Paperwork Reduction Act of 1995, before seeking OMB approval, Federal agencies must solicit public comment on proposed collections of information, including extensions and reinstatement of previously approved collections.

DATES: Comments must be received on or before July 30, 2018.

ADDRESSES: You may submit comments [identified by Docket No. DOT-NHTSA-2018-0034] through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Michael Frenchik, Office of Data Acquisition, Safety Systems Management Division (NSA-0130), Room W53-303, 1200 New Jersey Avenue SE, Washington, DC 20590. Mr. Frenchik's telephone number is (202) 366-0641. Please identify the relevant collection of information by referring to its OMB Control Number.

SUPPLEMENTARY INFORMATION:

Title: State Data Transfer for Vehicle Crash Information.

OMB Control Number: xxxx-xxxx.

Type of Request: Collection of motor vehicle crash data.

Abstract: The U.S. Department of Transportation, National Highway Traffic Safety Administration (NHTSA) was established by Congress to save lives, prevent injuries, and reduce economic costs due to motor vehicle crashes through education, research, safety standards, and enforcement activity. Within NHTSA, the National Center for Statistics and Analysis is responsible for providing timely, complete, and high-quality data for use by NHTSA, other Federal, State, and local governmental agencies, as well as others in motor vehicle safety research and analysis to reduce crashes, injuries, deaths, and associated medical costs. NHTSA conducts these activities pursuant to 49 U.S.C. Chapter 301.

Historically, NHTSA has been collecting vehicle crash data from States through several programs, including, the State Data System (SDS), the Fatality Analysis Reporting System (FARS), the Crash Report Sampling System (CRSS) and the Crash Investigation Sampling System (CISS). Even though each of these data collection programs collects data for its own focus area, all these programs include crash data from the States' crash data systems. Each of these programs retrieves data from the States separately. The process of retrieving data from States is also not automated, requiring manual data entry. The following are brief descriptions of these data collection programs:

• FARS is a nationwide census of fatalities suffered in motor vehicle traffic crashes;

• CRSS is a nationally representative sample of police-reported crashes involving all types of motor vehicles, pedestrians, and cyclists, ranging from property-damage-only crashes to those that result in fatalities;

• CISS is a nationally representative sample of minor, serious, and fatal crashes involving at least one passenger vehicle—cars, light trucks, sport utility vehicles, and vans—towed from the scene;

• SDS collects vehicle crash data files from a limited number of States.

Over the last decade or so, efforts have been underway to consolidate, improve, and automate data management at Federal and State levels. Many States have built centralized databases for their crash data. With the adoption of new data management technologies and increased adoption of the Model Minimum Uniform Crash Criteria (MMUCC) guideline, the timing is now ideal to pursue the electronic transfer of State crash data to NHTSA. The State Data Transfer effort will automate the transfer of the State's motor vehicle crash data, including crashes resulting in fatalities, injuries and property damage only, into a federal data warehouse. NHTSA will use the data collected in this federal data warehouse to replace the manual data collection and coding to the extent possible for SDS, FARS, CRSS, and CISS. Data in this federal data warehouse will also be available to other federal agencies to analyze safety trends and identify safety issues across the nation. Through NHTSA's State Data Transfer collection effort, NHTSA seeks to reduce or eliminate the redundant processes and have more accurate, high quality and timely data to help save lives, prevent injuries, and reduce economic costs due to motor vehicle crashes.

Affected Public: State Governments.

Estimated Number of Respondents: 15.

Frequency: Mutually agreed upon between NHTSA and States; potentially from daily to annual.

Estimated Total One-Time Initial Implementation Burden Hours: 200 hours per State.

Estimated Total One-Time Initial Implementation Burden Cost: $8,800 per State.

Estimated Total Annual Maintenance Burden Hours: 5 hours per State.

Estimated Total Annual Maintenance Burden Cost: $1,000 per State.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Terry T. Shelton,
Associate Administrator, National Center for Statistics and Analysis.

[FR Doc. 2018-11670 Filed 5-30-18; 8:45 am]

BILLING CODE 4910-59-P